OVERSEAS PRIVATE INVESTMENT CORPORATION

Sunshine Notice: Board of Directors Meeting

TIME AND DATE: Thursday, December 9, 2010, 10 a.m. (open portion); 10:15 a.m. (closed portion).

PLACE: Offices of the Corporation, Twelfth Floor Board Room, 1100 New York Avenue, NW., Washington, DC.

STATUS: Meeting open to the Public from 10 a.m. to 10:15 a.m. Closed portion will commence at 10:15 a.m. (approx.).

MATTERS TO BE CONSIDERED:

1. President's Report

2. Approval of September 23, 2010 Minutes (open session)

3. Confirmations: Judith D. Pryor as Vice President, External Affairs

FURTHER MATTERS TO BE CONSIDERED: (Closed to the public 10:15 a.m.)

1. Reports

2. Finance Project—Democratic Republic of Congo

3. Approval of September 23, 2010 Minutes (closed session)

4. Pending Major Projects

Written summaries of the projects to be presented will be posted on OPIC's web site on or about November 4, 2010.

CONTACT PERSON FOR INFORMATION: Information on the meeting may be obtained from Connie M. Downs at (202) 336-8438.

Dated: October 28, 2010.
Connie M. Downs,
Corporate Secretary, Overseas Private Investment Corporation.

[FR Doc. 2010-27632 Filed 10-28-10; 4:15 pm]

BILLING CODE 3210-01-P